DEPARTMENT OF ENERGY

Federal Energy Regulatory Commission

[Project No. 13371-001]

Town of West Stockbridge; Notice of Intent To File License Application, Filing of Pre-Application Document, and Approving Use of the Traditional Licensing Process

February 2, 2010.

a. Type of Filing: Notice of Intent to File License Application and Request to Use the Traditional Licensing Process.

b. Project No.: 13371-001.

c. Dated Filed: November 30, 2009.

d. Submitted By: Town of West Stockbridge.

e. Name of Project: Shaker Mill Dam Hydroelectric Project.

f. Location: On the Williams River, in Berkshire County, Massachusetts. No federal lands are occupied by the project works or located within the project boundary.

g. Filed Pursuant to: 18 CFR 5.3 of the Commission's regulations.

h. Potential Applicant Contact: Town of West Stockbridge, c/o Tina Skorput Cooper, Chair, Board of Selectman, 21 State Line Rd., P.O. Box 525, West Stockbridge, MA 01266; (413) 232-0300 ext. 319.

i. FERC Contact: Michael Watts, Michael.Watts@ferc.gov, (202) 502-6123.

j. The Town of West Stockbridge filed its request to use the Traditional Licensing Process on November 30, 2009. The City of Nashua provided public notice of its request on January 15, 2010. In a letter dated February 1, 2010, the Director of the Office of Energy Projects approved the Town of West Stockbridge's request to use the Traditional Licensing Process.

k. With this notice, we are initiating informal consultation with: (a) The U.S. Fish and Wildlife Service and NOAA Fisheries under section 7 of the Endangered Species Act and the joint agency regulations thereunder at 50 CFR, Part 402; (b) NOAA Fisheries under section 305(b) of the Magnuson-Stevens Fishery Conservation and Management Act and implementing regulations at 50 CFR 600.920; and (c) the Massachusetts State Historic Preservation Officer, as required by Section 106, National Historical Preservation Act, and the implementing regulations of the Advisory Council on Historic Preservation at 36 CFR 800.2.

l. With this notice, we are designating the Town of West Stockbridge as the Commission's non-federal representative for carrying out informal consultation, pursuant to Section 7 of the Endangered Species Act, Section 305 of the Magnuson-Stevens Fishery Conservation and Management Act, and Section 106 of the National Historic Preservation Act.

m. Town of West Stockbridge filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659. A copy is also available for inspection and reproduction at the address in paragraph h.

o. Register online at http://www.ferc.gov/docs-filing/esubscription.asp to be notified via e-mail of new filing and issuances related to this or other pending projects. For assistance, contact FERC Online Support.

Kimberly D. Bose,
Secretary.

[FR Doc. 2010-2727 Filed 2-8-10; 8:45 am]

BILLING CODE 6717-01-P